DEPARTMENT OF STATE

[Public Notice 3559]

Bureau of Educational and Cultural Affairs Request for Grant Proposals: Junior Faculty Development Program

SUMMARY: The Office of Academic Exchange Programs/ European Programs Branch of the Bureau of Educational and Cultural Affairs announces an open competition for the Junior Faculty Development Program (JFDP). Public and private non-profit organizations meeting the provisions described in IRS regulation 26 CFR 1.501(c) may submit proposals to place approximately 128 visiting faculty from Russia and the New Independent States of the former Soviet Union at U.S. universities in a one academic year (nine months) teacher training and curriculum development program. The grantee organization will support and oversee the activities of the faculty throughout their stay in the United States, including their undertaking a practical internship at the end of the academic program (an additional two months). In addition, the grantee organization will recruit and select candidates for the JFDP in the following countries: Armenia, Azerbaijan, Georgia, Kazakhstan, Kyrgyzstan, Moldova, Russia, Turkmenistan and Uzbekistan.

Program Information

Overview

The Junior Faculty Development Program (JFDP) offers fellowships to approximately 128 university instructors from Armenia, Azerbaijan, Georgia, Kazakhstan, Kyrgyzstan, Moldova, Russia, Ukraine and Uzbekistan. Selected through an open, merit-based competition, JFDP Fellows attend U.S. universities for one academic year to work with faculty mentors and to audit courses in order to develop new curricula and approaches to teaching in their fields of study. The JFDP encourages its Fellows to develop professional relationships with the American academic community, and to forge ties between their American colleagues and colleagues in their home countries, and to share their experiences and knowledge with American students and professors. Throughout their stay in the United States, JFDP Fellows attend conferences and seminars, and participate in two-month practical internships after completing the academic component of the program. The goals of the program are to allow U.S. scholars and scholars from the participating countries to exchange ideas on curriculum design and teaching, and to increase collaboration and cooperation between universities in the United States and former Soviet Union. Participation in the JFDP is restricted to university instructors from Russia and the NIS in the following fields of study: American studies, arts management, architecture & urban planning, business administration, cultural anthropology, economics, education administration, environmental studies, history, journalism, law, library science, linguistics, literature, philosophy, political science, psychology, public administration, public policy and sociology.

Programs must comply with J-1 Visa regulations. Subject to the availability of funds, it is anticipated that this grant will begin on or about July 1, 2001. Please refer to Solicitation Package for further information.

Budget Guidelines

Grants awarded to eligible organizations with less than four years of experience in conducting international exchange programs will be limited to $60,000.

Applicants must submit a comprehensive budget for the entire program. The Bureau anticipates awarding one grant in the amount of $4,071,000 to support the program and administrative costs required to implement this program. The Bureau encourages applicants to provide maximum levels of cost sharing and funding from private sources in support of its programs. There must be a summary budget as well as breakdowns reflecting both administrative and program budgets. Applicants may provide separate sub-budgets for each program component, phase, location, or activity to provide clarification.

Allowable costs for the program include the following:

(1) Overseas recruitment and selection of candidates

(2) Participant travel expenses, stipends, accident and sickness insurance, visa fees, professional development costs

(3) Orientations, participant conferences

(4) Host university fees

(5) Alumni and follow-on activities

Please refer to the Solicitation Package for complete budget guidelines and formatting instructions.

Announcement Title and Number: All correspondence with the Bureau concerning this RFGP should reference the above title and number ECA/A/E/EUR-01-08.

FOR FURTHER INFORMATION, CONTACT: The Office of Academic Exchanges, ECA/A/E/EUR, Room 246, U.S. Department of State, 301 4th Street, S.W., Washington, D.C. 20547, tel. (202) 205-0525, fax (202) 260-7985, exchanges@pd.state.gov to request a Solicitation Package. The Solicitation Package contains detailed award criteria, required application forms, specific budget instructions, and standard guidelines for proposal preparation. Please specify Bureau Program Officer Sheila Casey on all other inquiries and correspondence.

Please read the complete Federal Register announcement before sending inquiries or submitting proposals. Once the RFGP deadline has passed, Bureau staff may not discuss this competition with applicants until the proposal review process has been completed.

To Download A Solicitation Package via Internet: The entire Solicitation Package may be downloaded from the Bureau's website at http://exchanges.state.gov/education/RFGPs. Please read all information before downloading.

Deadline for Proposals: All proposal copies must be received at the Bureau of Educational and Cultural Affairs by 5 p.m. Washington, D.C. time on Friday, March 30, 2001. Faxed documents will not be accepted at any time. Documents postmarked the due date but received on a later date will not be accepted. Each applicant must ensure that the proposals are received by the above deadline.

Applicants must follow all instructions in the Solicitation Package. The original and five (5) copies of the application should be sent to:

U.S. Department of State, SA-44, Bureau of Educational and Cultural Affairs, Ref.: ECA/A/E/EUR-01-08, Program Management, ECA/EX/PM, Room 534, 301 4th Street, SW., Washington, DC 20547.

Applicants must also submit the “Executive Summary” and “Proposal Narrative” sections of the proposal on a 3.5″ diskette, formatted for DOS. These documents must be provided in ASCII text (DOS) format with a maximum line length of 65 characters. The Bureau will transmit these files electronically to the Public Affairs Sections at U.S. Embassies for review, with the goal of reducing the time it takes to obtain Embassy comments for the Bureau's grants review process.

Diversity, Freedom and Democracy Guidelines

Pursuant to the Bureau's authorizing legislation, programs must maintain a non-political character and should be balanced and representative of the diversity of American political, social, and cultural life. “Diversity” should be interpreted in the broadest sense and encompass differences including, but not limited to ethnicity, race, gender, religion, geographic location, socio-economic status, and physical challenges. Applicants are strongly encouraged to adhere to the advancement of this principle both in program administration and in program content. Please refer to the review criteria under the ‘Support for Diversity’ section for specific suggestions on incorporating diversity into the total proposal. Public Law 104-319 provides that “in carrying out programs of educational and cultural exchange in countries whose people do not fully enjoy freedom and democracy,” the Bureau “shall take appropriate steps to provide opportunities for participation in such programs to human rights and democracy leaders of such countries.” Public Law 106-113 requires that the governments of the countries described above do not have inappropriate influence in the selection process. Proposals should reflect advancement of these goals in their program contents, to the full extent deemed feasible.

Review Process

The Bureau will acknowledge receipt of all proposals and will review them for technical eligibility. Proposals will be deemed ineligible if they do not fully adhere to the guidelines stated herein and in the Solicitation Package. All eligible proposals will be reviewed by the program office, as well as the Public Diplomacy Sections overseas, where appropriate. Eligible proposals will be subject to compliance with Federal and Bureau regulations and guidelines and forwarded to Bureau grant panels for advisory review. Proposals may also be reviewed by the Office of the Legal Adviser or by other Department elements. Final funding decisions are at the discretion of the Department of State's Assistant Secretary for Educational and Cultural Affairs. Final technical authority for assistance awards (grants or cooperative agreements) resides with the Bureau's Grants Officer.

Review Criteria

Technically eligible applications will be competitively reviewed according to the criteria stated below. These criteria are not rank ordered and all carry equal weight in the proposal evaluation:

1. Program Development and Management: The proposal should exhibit originality, substance, precision, innovation, and relevance to the Bureau's mission. Objectives should be reasonable, feasible and flexible. The proposal should clearly demonstrate how the grantee organization will meet the program's objectives. A detailed agenda and relevant work plan should demonstrate substantive undertakings and logistical capacity. The agenda should adhere to the program overview and guidelines described above.

2. Multiplier Effect/Impact: The JFDP should strengthen long-term mutual understanding, including maximum sharing of information and establishment of long-term institutional and individual linkages. The proposal should include creative ways to involve program participants in U.S. communities.

3. Support of Diversity: The proposal should demonstrate the grantee organization's commitment to promoting the awareness and understanding of diversity through participant recruitment efforts, and through its selection of host universities.

4. Institution's Record/Ability: The proposal should demonstrate an institutional record of successful exchange programs, including responsible fiscal management and full compliance with all reporting requirements for past Bureau/USIA grants as determined by the Bureau's Grants Division. Proposed personnel and institutional resources should be adequate and appropriate to achieve the program's goals.

5. Follow-on and Alumni Activities: The proposal should provide a plan for continued follow-on activity that insures that Bureau-supported programs are not isolated events, but have meaning and scope beyond the time the actual exchange took place.

6. Project Evaluation: The proposal should include a plan to evaluate the success of the JFDP, both during and after the program. The Bureau recommends that the proposal include a draft survey questionnaire or other technique, plus a description of methodologies that can be used to link outcomes to original project objectives. The grantee organization will be expected to submit intermediate reports after each project component is concluded or quarterly, whichever is less frequent.

7. Cost-effectiveness and Cost Sharing: The overhead and administrative components of the proposal, including salaries and honoraria, should be kept as low as possible. All other items should be necessary and appropriate. The proposal should maximize cost sharing through other private sector support as well as institutional direct funding contributions.

Authority

Overall grant making authority for this program is contained in the Mutual Educational and Cultural Exchange Act of 1961, Public Law 87-256, as amended, also known as the Fulbright-Hays Act. The purpose of the Act is “to enable the Government of the United States to increase mutual understanding between the people of the United States and the people of other countries * * *; to strengthen the ties which unite us with other nations by demonstrating the educational and cultural interests, developments, and achievements of the people of the United States and other nations * * * and thus to assist in the development of friendly, sympathetic and peaceful relations between the United States and the other countries of the world.” The funding authority for the program above is provided in part through the FREEDOM Support Act of 1993.

Notice

The terms and conditions published in this RFGP are binding and may not be modified by any Bureau representative. Explanatory information provided by the Bureau that contradicts published language will not be binding. Issuance of the RFGP does not constitute an award commitment on the part of the Government. The Bureau reserves the right to reduce, revise, or increase proposal budgets in accordance with the needs of the program and the availability of funds. Awards made will be subject to periodic reporting and evaluation requirements.

Notification

Final awards cannot be made until funds have been appropriated by Congress, allocated and committed through internal Bureau procedures.

Dated: January 19, 2001.
Helena Kane Finn,
Principal Deputy Assistant Secretary, Bureau of Educational and Cultural Affairs, Department of State.

[FR Doc. 01-2316 Filed 1-24-01; 8:45 am]

BILLING CODE 4710-05-P